DEPARTMENT OF THE INTERIOR

Bureau of Ocean Energy Management

Outer Continental Shelf (OCS), Eastern Gulf of Mexico, Oil and Gas Lease Sales for Years 2012-2017

AGENCY: Bureau of Ocean Energy Management (BOEM), Interior.

ACTION: Call for Information and Nominations/Notice of Intent (Call/NOI) to Prepare an Environmental Impact Statement (EIS).

SUMMARY: This Call for Information and Nominations (hereinafter referred to as “Call”) is the initial step in a multi-sale process covering all lease sales in the Eastern Planning Area (EPA) in the Gulf of Mexico (GOM) to be included in the OCS Oil and Gas Leasing Program for 2012-2017. Two EPA lease sales are specifically covered by this Call. Simultaneously with this Call, BOEM is preparing a multi-sale EIS covering the same sales in the EPA. Comments received in response to the NOI will assist BOEM in developing the scope of the EIS.

DATES: Information and Nominations submitted in response to the Call must be received no later than December 19, 2011. Comments on the NOI must be received no later than January 3, 2012 at the addresses specified below.

FOR FURTHER INFORMATION CONTACT: For information on the Call, please contact Mr. Carrol Williams, Bureau of Ocean Energy Management, Gulf of Mexico OCS Region, 1201 Elmwood Park Boulevard (MS 5422), New Orleans, Louisiana 70123-2394, telephone (504) 736-2803. For information on the NOI, you may contact Mr. Gary Goeke, Bureau of Ocean Energy Management, Gulf of Mexico OCS Region, 1201 Elmwood Park Boulevard (MS 5412), New Orleans, Louisiana 70123-2394, telephone (504) 736-3233.

SUPPLEMENTARY INFORMATION: On November 8, 2011, the Department of the Interior released a Proposed OCS Oil and Gas Leasing Program for 2012-2017. The OCS Oil and Gas Leasing Program 2012-2017 Draft PEIS, prepared by BOEM to support the Proposed Program, is available for comment through January 9, 2012. This multi-sale Call covers only the lease sales in the EPA that are proposed for inclusion in the OCS Oil and Gas Leasing Program for 2012-2017.

Gulf of Mexico OCS Oil and Gas Lease Sale 224 was held on March 19, 2008. The EIS which will be prepared subsequent to this Call/NOI will analyze a larger area in the EPA than was addressed in the Gulf of Mexico OCS Oil and Gas Lease Sale 224, Final Supplemental EIS (OCS EIS/EA BOEMRE 2007-060); this EIS will address the lease Sale 224 area plus the 109,977-acre triangular area located immediately south of the Lease Sale 224 area.

Call for Information and Nominations

1. Authority

This Call is published pursuant to the Outer Continental Shelf Lands Act (OCSLA) as amended (43 U.S.C. 1331 et seq.), and the implementing regulations (30 CFR part 556).

2. Purpose of Call

The purpose of the Call is to gather information for the following tentatively scheduled OCS lease sales:

OCS planning area sale | Tentative lease sale year
EPA Sale 225 | 2014
EPA Sale 226 | 2016

BOEM seeks information and nominations on oil and gas leasing, exploration, development, and production within this portion of the EPA from all interested parties. This early planning and consultation step ensures that all interests and concerns are communicated to the Department of the Interior for its future decisions in the leasing process pursuant to section 18 of OCSLA (43 U.S.C. 1344) and implementing regulations (30 CFR part 556).

Pursuant to section 18 of OCSLA (43 U.S.C. 1344), the Secretary of the Interior is separately developing the 5-year Program for 2012-2017; this Call should not be construed as a prejudgment by the Secretary concerning any area to be made available for leasing under the 2012-2017 5-year Program.

This Call does not indicate a preliminary decision to lease in the area described below. Leasing within this area will be in compliance with applicable laws including all requirements of the National Environmental Policy Act, Coastal Zone Management Act and OCSLA and established departmental procedures.

3. Description of Area

The general area of this Call covers approximately 657,905 acres in the EPA in the GOM, which includes the Sale 224 Area and a triangular area south of the Sale 224 area. The entire Sale 225 area is bordered on the north by a 200-mile buffer drawn south of the Florida coastline, on the west by the Central Planning Area boundary, and on the east by the Military Mission Line (86° 41′ W). The area is south of eastern Alabama and western Florida; the nearest point of land is 125 miles northwest in Louisiana. A standard Call for Information Map depicting this portion of the EPA is available without charge from the Bureau of Ocean Energy Management, Public Information Office (MS 5034), 1201 Elmwood Park Boulevard, New Orleans, Louisiana 70123-2394, or by telephone at 1-(800)-200-GULF. The map is also available via the BOEM Web site at http://www.boem.gov.

4. Instructions on the Call

Indications of interest and comments must be received no later than 30 days following publication of this document in the Federal Register in envelopes labeled “Comments on the Call for Information for EPA Lease Sales for the years 2012-2017 in the GOM,” submitted to the Gulf of Mexico OCS Region's Leasing and Financial Responsibility Section (Attention: Mr. Carrol Williams) at the previously noted address.

The standard Call for Information Map delineates the Call area, all of which has been identified by BOEM as having potential for the discovery of accumulations of oil and gas.

Comments are sought from all interested parties about particular geological, environmental (including natural disasters), biological, archaeological, and socioeconomic conditions or conflicts, or other information that might bear upon the potential leasing and development of this area. Comments are also sought on potential conflicts between future OCS oil and gas activities that may result from the proposed lease sale and State Coastal Management Programs (CMPs). If possible, these comments should identify specific CMP policies of concern, the nature of the conflict foreseen, and steps that BOEM could take to avoid or mitigate the potential conflict. Comments may be in terms of broad areas or restricted to particular blocks of concern. Those submitting comments are requested to list block numbers or outline the subject area on the standard Call for Information Map.

5. Use of Information From Call

Information submitted in response to this Call will be used for several purposes. First, comments on possible environmental effects and potential use conflicts will be used in the analysis of environmental conditions in and near the Call area. Comments on environmental and other use conflicts will be used to make a preliminary determination of the potential advantages and disadvantages of oil and gas exploration and development to the region and the Nation. A second purpose for this Call is to use the comments collected in the scoping process to develop proposed actions and alternatives. Third, comments may be used in developing lease terms and conditions to ensure environmentally safe offshore operations. Finally, comments may be used to assess potential conflicts between offshore gas and oil activities and State CMPs.

Individual indications of interest in areas for mineral leasing are considered to be privileged and proprietary information. The names of persons or entities submitting comments or indicating interest will be treated by BOEM as information that may be released to the public. Comments will likewise be released, except that actual individual indications of interest in areas for mineral leasing, trade secrets, commercial or financial information will be treated as confidential and proprietary information that is privileged and will not be released to the public.

6. Existing Information

BOEM routinely assesses the status of information acquisition efforts and the quality of the information base for potential decisions on tentatively scheduled lease sales. An extensive environmental studies program has been underway in the GOM since 1973. The emphasis, including continuing studies, has been on “environmental analysis” of biologically sensitive habitats, physical oceanography, ocean-circulation modeling, ecological and socio-economic effects of oil and gas activities, and the effects of hurricanes on coastal communities and environments.

You may obtain a complete listing of available study reports and information for ordering copies from the Public Information Office referenced above. You may also order the reports for a fee by contacting the U.S. Department of Commerce at: U.S. Department of Commerce, National Technical Information Service, 5301 Shawnee Road, Springfield, Virginia 22312, or by telephone: (703) 605-6000 or (800) 553-6847. In addition, you may obtain a program status report for continuing studies in this area by contacting BOEM at: Chief, Environmental Sciences Section (MS 5430), Bureau of Ocean Energy Management, Gulf of Mexico OCS Region, 1201 Elmwood Park Boulevard, New Orleans, Louisiana 70123-2394, by telephone: (504) 736-2752, or via the BOEM Web site at http://www.boem.gov/Environmental-Stewardship/Environmental-Studies/Gulf-of-Mexico-Region/GOMR-Studies.aspx.

7. Tentative Schedule for the First EPA Sale

NOI to Prepare an EIS | November 2011.
Call for Information and Nominations | November 2011.
Comments Received on Call | December 2011.
Comments Received on NOI | January 2012.
Scoping Meetings | January 2012.
Area Identification Decision | February 2012.
Draft EIS Published | July-August 2012.
Public Hearings on Draft EIS | September 2012.
Final EIS Published | April 2013.
Proposed Notice of Sale and Coastal Zone Management Consistency Determination | September-October 2014.
Final Notice of Sale | February 2014.
Tentative Lease Sale Date | March 2014.

Notice of Intent To Prepare an Environmental Impact Statement

1. Authority

The NOI is published pursuant to the regulations (40 CFR 1501.7) implementing the provisions of the NEPA of 1969, as amended (42 U.S.C. 4321 et seq. (1988)).

2. Purpose of the Notice of Intent

Pursuant to the regulations implementing the procedural provisions of NEPA, BOEM is announcing its intent to prepare an EIS on oil and gas lease sales tentatively scheduled in 2012-2017 in the EPA offshore the States of Alabama and Florida. The NOI serves to announce the scoping process for this EIS. Throughout the scoping process, Federal, state, and local government agencies and other interested parties have the opportunity to aid BOEM in determining the significant issues and alternatives for analysis in the EIS. BOEM will use and coordinate the NEPA commenting process to satisfy the public involvement process for Section 106 of the National Historic Preservation Act (16 U.S.C. 470f), as provided for in 36 CFR 800.2(d)(3).

The EIS analysis will focus on the potential environmental and socioeconomic effects of oil and natural gas leasing, exploration, development, and production in the area identified through the Area Identification process as the proposed lease sale areas. In addition to the no action alternative (i.e., hold no sale), other alternatives may be considered for each sale such as deferring certain areas from the proposed lease sales.

3. Supplemental Information

On July 18, 2008, the President announced the lifting of the Presidential Withdrawal for all areas of the OCS except for marine sanctuaries. The lifting of this withdrawal made available some acreage in the Gulf of Mexico that is not under the Gulf of Mexico Energy Security Act moratoria. One of these areas in the EPA is a triangle approximately 39 miles long and approximately 8 miles wide at its widest point with blocks and portions of blocks in the Lloyd Ridge and Henderson areas; it is immediately south of the Sale 224 Area.

For more information on the EIS, you may contact Mr. Gary Goeke at the Bureau of Ocean Energy Management, Gulf of Mexico OCS Region, 1201 Elmwood Park Boulevard (MS 5412), New Orleans, Louisiana 70123-2394.

4. Cooperating Agency

BOEM invites other Federal agencies and state, Tribal, and local governments to consider becoming cooperating agencies in the preparation of the EIS. We invite qualified government entities to inquire about cooperating agency status for the EIS. Following the guidelines from the Council on Environmental Quality (CEQ), qualified agencies and governments are those with “jurisdiction by law or special expertise.” Potential cooperating agencies should consider their authority and capacity to assume the responsibilities of a cooperating agency and note that an agency's role in the environmental analysis neither enlarges nor diminishes the final decisionmaking authority of any other agency involved in the NEPA process. Upon request, BOEM will provide potential cooperating agencies with a written summary of ground rules for cooperating agencies, including time schedules and critical action dates, milestones, responsibilities, scope and detail of cooperating agencies' contributions, and the availability of pre-decisional information. BOEM anticipates this summary will form the basis for a Memorandum of Understanding between BOEM and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at http://ceq.hss.doe.gov/nepa/regs/cooperating/cooperatingagenciesmemorandum.html and http://ceq.hss.doe.gov/nepa/regs/cooperating/cooperatingagencymemofactors.html.

BOEM, as the lead agency, will not provide financial assistance to cooperating agencies. Yet, even if an organization is not a cooperating agency, opportunities exist to provide information and comments to BOEM during the normal public input phases of the NEPA/EIS process. If further information about cooperating agencies is needed, please contact Mr. Gary Goeke at (504) 736-3233.

5. Comments

Federal, state, and local government agencies and other interested parties are requested to send their written comments on the scope of the EIS, significant issues that should be addressed, alternatives that should be considered, and scenario development in either of the following ways:

a. In written form enclosed in an envelope labeled “Comments on the EIS” and mailed (or hand carried) to the Regional Supervisor, Environment (MS 5400), Bureau of Ocean Energy Management, Gulf of Mexico OCS Region, 1201 Elmwood Park Boulevard, New Orleans, Louisiana 70123-2394.

b. Electronically to the BOEM email address: Gary.Goeke@boem.gov.

Comments should be submitted no later than 45 days from the publication of this NOI.

Notice of Public Scoping Meetings on the Environmental Impact Statement

Pursuant to the regulations implementing the procedural provisions of NEPA (42 U.S.C. 4321 et seq.), BOEM will hold public scoping meetings in Louisiana, Alabama, and Florida on the EIS for the tentatively scheduled 2012-2017 oil and gas leasing proposal in the EPA. The purpose of these meetings will be to solicit comments on the scope of the EIS. The public scoping meetings will be scheduled at a later date and a FR notice will be published announcing the date, time and location of the meetings.

For further information about the scoping meetings, contact Mr. Gary Goeke at the Bureau of Ocean Energy Management, Gulf of Mexico OCS Region, 1201 Elmwood Park Boulevard (MS 5412), New Orleans, Louisiana 70123-2394, or by telephone (504) 736-3233.

Dated: November 7, 2011.
Tommy P. Beaudreau,
Director, Bureau of Ocean Energy Management.

[FR Doc. 2011-29854 Filed 11-17-11; 8:45 am]

BILLING CODE 4310-MR-P